ENVIRONMENTAL PROTECTION AGENCY

40 CFR Part 82

[FRL-7160-4]

RIN 2060-AG12

Protection of Stratospheric Ozone: Notice 16 for Significant New Alternatives Policy Program

AGENCY: Environmental Protection Agency.

ACTION: Notice of acceptability; notice of data availability.

SUMMARY: This notice of acceptability expands the list of acceptable substitutes for ozone-depleting substances (ODS) under the U.S. Environmental Protection Agency's (EPA) Significant New Alternatives Policy (SNAP) program. The substitutes are for use in the following sectors: refrigeration and air conditioning; aerosols; and adhesives, coatings, and inks. In addition, we are notifying the public of new information available on the toxicity of HCFC-225ca and HCFC-225cb, acceptable substitutes used in solvents cleaning.

EFFECTIVE DATE: March 22, 2002.

ADDRESSES: Information relevant to this document is contained in Air Docket A-91-42, Room M-1500, Waterside Mall, U.S. Environmental Protection Agency, 401 M Street, SW., Washington, DC 20460, telephone: (202) 260-7548. You may inspect the docket between 8:00 a.m. and 5:30 p.m. weekdays. As provided in 40 CFR part 2, a reasonable fee may be charged for photocopying. Submissions to EPA for the use of the substitutes listed in this document may be found under category VI-D of EPA docket A-91-42. You can find other materials supporting the decisions in this action under category IX-B of EPA docket A-91-42.

FOR FURTHER INFORMATION CONTACT: Margaret Sheppard by telephone at (202) 564-9163, by fax at (202) 565-2155, by e-mail at sheppard.margaret@epa.gov, or by mail at U.S. Environmental Protection Agency, 1200 Pennsylvania Avenue, NW., Mail Code 6205J, Washington, DC 20460. Overnight or courier deliveries should be sent to 501 3rd Street, NW., Washington, DC, 20001.

For more information on the Agency's process for administering the SNAP program or criteria for evaluation of substitutes, refer to the original SNAP rulemaking published in the Federal Register on March 18, 1994 (59 FR 13044). Notices and rulemakings under the SNAP program, as well as other EPA publications on protection of stratospheric ozone, are available from EPA's Ozone Depletion World Wide Web site at http://www.epa.gov/ozone/ including the SNAP portion at http://www.epa.gov/ozone/title6/snap/.

SUPPLEMENTARY INFORMATION:

I. Listing of Acceptable Substitutes

A. Refrigeration and Air Conditioning

B. Aerosols

C. Adhesives, Coating and Inks

II. New Data Available on the Toxicity of HCFC-225ca/cb

III. Section 612 Program

A. Statutory Requirements

B. Regulatory History

Appendix A—Summary of Acceptable Decisions

Appendix B—New Information Available

I. Listing of Acceptable Substitutes

This section presents EPA's most recent acceptable listing decisions for substitutes in the following industrial sectors: refrigeration and air conditioning; aerosols; and adhesives, coatings, and inks. For copies of the full list of SNAP decisions in all industrial sectors, visit EPA's Ozone Depletion web site at http://www.epa.gov/ozone/title6/snap/lists/index.html.

The sections below discuss the substitute listing in detail. Appendix A contains a table summarizing today's listing decisions. The statements of further information contained in the table provide additional information, but are not legally binding under section 612 of the Clean Air Act. In addition, the “further information” may not be a comprehensive list of other legal obligations you may need to meet when using the substitute. Although you are not required to follow recommendations in the “further information” column of the table to use a substitute, EPA strongly encourages you to apply the information when using these substitutes. In many instances, the information simply refers to standard operating practices in existing industry and/or building-code standards. Thus, many of these statements, if adopted, would not require significant changes to existing operating practices.

A. Refrigeration and Air Conditioning

1., 2., 3. and 4. PFC-1102HC, PFC-662HC, PFC-552HC and FLC-15

EPA's decision: The chemical blends submitted to EPA with the unregistered trade names PFC-1102HC, PFC-662HC, PFC-552HC and FLC-15 are acceptable for use in new equipment as substitutes for:

• CFC-13, CFC-113, CFC-114 and blends thereof in very low temperature refrigeration.

IGC Polycold Systems Inc., the submitter of the above-listed blends, claims that the compositions of these HFC blends, tailored for use in its equipment, are confidential business information. Despite the trade names of these refrigerants, they are not perfluorocarbons. You can find a version of the submission with information claimed confidential by the submitter removed, in EPA Air Docket A-91-42, item VI-D-268.

Environmental information: The ozone depletion potential (ODP) of each of these four blends is zero.

The global warming potentials (GWPs) of the blends are between 7500 and 8500; therefore, EPA strongly encourages prompt identification and repair of any leaks that may occur. EPA notes that many of the alternatives already listed as acceptable for use within the very low temperature refrigeration end use have GWPs this high or higher, and encourages the continued search for lower-GWP alternatives for this end use. The contribution of these blends to global warming will be minimized through the implementation of the venting prohibition under section 608(c)(2) of the Clean Air Act (see 40 CFR part 82, subpart F). This section and EPA's implementing regulations prohibit venting or release of substitutes for class I and class II ozone depleting substances used in refrigeration and air-conditioning and require proper handling and disposal of these substances, such as recycling or recovery.

Some components of these blends have not been exempted from listing as volatile organic compounds (VOCs) under Clean Air Act regulations for purposes of State Implementation Programs (SIPs) to control ground-level ozone.

Flammability information: These four blends are nonflammable. The individual components of the blends exhibit little to no flammability.

Toxicity and exposure data: All components in these blends have eight-hour time-weighted average occupational exposure limits, such as Workplace Environmental Exposure Levels (WEELs) from the American Industrial Hygiene Association (AIHA), of approximately 1,000 ppm. EPA expects users to follow all recommendations specified in the material safety data sheets (MSDSs) for the blends and other safety precautions common in the refrigeration and air conditioning industry.

Comparison to other refrigerants: The Polycold HFC blends reduce risk to the public compared to the ODSs they replace because they have no ODP. The other substitutes already listed as acceptable for very low temperature refrigeration either (1) have an ODP, (2) have a higher GWP than the Polycold HFC blends, (3) have lower energy efficiency compared to the Polycold HFC blends, resulting in an even higher GWP, or (4) have not been developed into a useful technology for this end use. In addition, there are relatively few acceptable substitutes in this end use with no ODP. Thus, we find that the Polycold HFC blends are acceptable because they reduce overall risk to public health and the environment in the end uses listed.

5. HFE-7000

EPA's decision: Hydrofluoroether (HFE)-7000 is acceptable for use in new and retrofit equipment as a substitute for:

• HCFC-123 in very low temperature refrigeration;

• CFC-11 and CFC-113 in industrial process refrigeration; and

• CFC-11 and CFC-113 in non-mechanical heat transfer.

3M, the submitter of the above-listed blends, indicates that this chemical is also known as HFE-301 and propane, 1,1,1,2,2,3,3 hepta fluoro-3-methoxy or 1-(methoxy)-1,1,2,2,3,3,3-heptafluoropropane. The empirical formula is C4H3F7O and it is also identified as CH3-O-CF2-CF2-CF3 and R-E347mcc1. You can find a version of the submission with information claimed confidential by the submitter removed, in EPA Air Docket A-91-42, item VI-D-272.

Environmental information: The ODP of HFE-7000 is zero. The GWP is estimated to range between 140 (World Meterological Organization estimate) and 400 (derived from Ninomiya et.al., 2000) relative to carbon dioxide, using a 100-year time horizon. The World Meteorological Organization previously estimated an atmospheric lifetime of 1.3 years, but more recent experimental data indicates a lifetime of 4.7 years (Ninomiya et.al., 2000).

This chemical has been exempted from listing as a VOC under Clean Air Act regulations.

Flammability information: This chemical is nonflammable.

Toxicity and exposure data: The manufacturer has recommended an acceptable exposure limit (AEL) of 75 ppm over an eight-hour time-weighted average. EPA believes this exposure limit will be protective of human health and safety. We expect users to follow all recommendations specified in the MSDS for this refrigerant and other safety precautions common in the refrigeration and air conditioning industry. This substitute was submitted to the Agency as part of a Premanufacture Notice (PMN) under the Toxic Substances Control Act (TSCA).

Comparison to other refrigerants: HFE-7000 is less toxic than HCFC-123 and is not an ozone depleter; thus, in the very low temperature end use, it reduces risk overall compared to CFC-11, CFC-113, and HCFC-123, the ODS it replaces. The GWP and atmospheric lifetime of HFE-7000 are lower than those of other acceptable alternatives in very low temperature refrigeration.

There are few alternatives for CFC-11 and CFC-113 in non-mechanical heat transfer, and HFE-7000 has a comparable or lower GWP than those alternatives. HFE-7000 has lower or comparable GWP and an ODP of zero, compared to most other substitutes available for industrial process refrigeration. Thus, we find that HFE-7000 is acceptable because it reduces overall risk to public health and the environment in the end uses listed.

6. ISCEON 39TC

ISCEON 39TC is acceptable for use in new and retrofit equipment as a substitute for CFC-12 in:

• Centrifugal chillers;

• Industrial process refrigeration;

• Industrial process air conditioning;

• Cold storage warehouses; and

• Ice skating rinks.

Rhodia Organique Fine Limited, the submitter of the above-listed refrigerant, claims the composition to be confidential business information. The submitter indicates that the refrigerant, also known as Centri-Cool, is a blend of two hydrofluorocarbons (HFCs).You can find a version of the submission with information claimed confidential by the submitter removed, in EPA Air Docket A-91-42, item VI-D-279.

Environmental information: The ozone depletion potential (ODP) of ISCEON 39TC is zero. The Global Warming Potential (GWP) of each of the two components is roughly 2000 to 3000 (relative to carbon dioxide, using a 100-year time horizon).

One component of this blend has not been exempted from listing as a volatile organic compound (VOC) under Clean Air Act regulations for purposes of State implementation plans (SIP) to control ground-level ozone.

Flammability information: Neither component, nor the blend, is flammable.

Toxicity and exposure data: Both components of the blend have workplace guidance level exposure limits on the order of 1000 ppm. EPA believes this exposure limit will be protective of human health and safety. EPA expects users to follow all recommendations specified in the Material Safety Data Sheet (MSDS) for the blend and the individual components and other safety precautions common in the refrigeration and air conditioning industry.

Comparison to other refrigerants: ISCEON 39TC is not an ozone depleter; thus, it reduces risk overall compared to CFC-12, the ODS it replaces. ISCEON 39TC has a comparable or lower GWP than the other substitutes for CFC-12. Thus, we find that ISCEON 39TC is acceptable because it reduces overall risk to public health and the environment in the end uses listed.

7. R-404A

R-404A is acceptable for use in new and retrofit equipment as a substitute for HCFC-22 in:

• Industrial process refrigeration.

R-404A is a blend of 44% by weight HFC-125 (pentafluoroethane), 52% by weight HFC-143a (1,1,1-trifluoroethane) and 4% by weight HFC-134a (1,1,1,2-tetrafluoroethane). You may find the submission under EPA Air Docket A-91-42, item VI-D-283. EPA previously listed R-404A as an acceptable substitute for CFC-12 in industrial process refrigeration and other end uses in the original SNAP rule (March 18, 1994; 59 FR 13044).

Environmental information: The ozone depletion potential (ODP) of R-404A is zero. The Global Warming Potentials (GWP) of HFC-125, HFC-143a and HFC-134a are 3400, 4300 and 1300, respectively (relative to carbon dioxide, using a 100-year time horizon). The contribution of this blend to global warming will be minimized through the implementation of the venting prohibition under section 608(c)(2) of the Clean Air Act (see 40 CFR part 82, subpart F). This section and EPA's implementing regulations prohibit venting or release of substitutes for class I and class II ozone depleting substances used in refrigeration and air-conditioning and require proper handling and disposal of these substances, such as recycling or recovery.

All components of this blend have been exempted from listing as a volatile organic compound (VOC) under Clean Air Act regulations for purposes of the State implementation plan (SIP) program.

Flammability information: The component HFC-143a is moderately flammable; however, the blend is not flammable nor does it fractionate into a flammable mixture.

Toxicity and exposure data: All components of the blend have workplace environmental exposure limits (WEELs) of 1000 ppm established by the American Industrial Hygiene Association (AIHA). EPA expects users to follow all recommendations specified in the Material Safety Data Sheet (MSDS) for the blend and the individual components and other safety precautions common in the refrigeration and air conditioning industry. We also expect that users of R-404A will adhere to the AIHA's WEELs.

Comparison to other refrigerants: R-404A is not an ozone depleter; thus, it reduces risk overall compared to HCFC-22, the ODS it replaces. R-404A has a comparable or lower GWP than the other substitutes for HCFC-22 and no ODP. Thus, we find that R-404A is acceptable because it reduces overall risk to public health and the environment in the end use listed.

8. Update: Formulation of NU-22 Changed

ICOR International has indicated that it is changing the composition of NU-22. On December 18, 2000, EPA found the original formulation acceptable for a variety of end-uses. At that time, the composition was claimed as confidential business information (CBI); however, the submitter has withdrawn that claim. The original formulation was 28.1% by weight pentafluoroethane (HFC-125), 70% 1,1,1,2-tetrafluoroethane (HFC-134a) and 1.9% isobutane (HC-600a). ICOR International has indicated it will not market this formulation. We are modifying the previous acceptability determination to now list this blend by its composition [R-125/134a/600a (28.1/70.0/1.9)] (rather than as NU-22) as an acceptable substitute for HCFC-22 in new and retrofit applications in the following end-uses:

• Industrial process refrigeration and air-conditioning;

• Centrifugal chillers;

• Reciprocating chillers;

• Residential air conditioning and heat pumps;

• Residential dehumidifiers;

• Refrigerated transport;

• Motor vehicle air conditioning (buses only).

The composition of NU-22 has been changed to 46.6% by weight pentafluoroethane (HFC-125), 50% 1,1,1,2-tetrafluoroethane (HFC-134a) and 3.4% butane, also known as n-butane (HC-600). This composition is identical to that of the refrigerant ISCEON 59. The manufacturer of ISCEON 59 has applied for assignment under the American Society of Heating, Refrigerating and Air-conditioning Engineers, Inc. (ASHRAE) Standard 34. The designation of R-417A has been recommended; however, this has not yet been formally published in an addendum or revision to ASHRAE Standard 34.

EPA previously found ISCEON 59 acceptable for several end-uses on December 6, 1999 at 64 FR 68040. That finding now applies to NU-22. NU-22 [R-125/134a/600 (46.6/50.0/3.4)] is acceptable for use in new and retrofit equipment as a substitute for R-22 in:

• Household and light commercial air-conditioning

• Commercial comfort air-conditioning (centrifugal chillers; reciprocating and screw chillers)

• Industrial process refrigeration;

• Industrial process air-conditioning;

• Cold storage warehouses;

• Refrigerated transport;

• Retail food refrigeration;

• Commercial ice machines;

• Vending machines;

• Water coolers;

• Household refrigerators;

• Household freezers;

• Ice skating rinks;

• Non-mechanical heat transfer.

B. Aerosols

1. HFC-245fa

EPA's decision: Hydrofluorocarbon-245fa is acceptable as a substitute for:

• CFC-113 and HCFC-141b in the aerosol solvent end use.

This compound is also known as HFC-245fa or 1,1,1,3,3-pentafluoropropane. You can find a version of the submission with information claimed confidential by the submitter removed, in EPA Air Docket A-91-42, item VI-D-274. EPA has previously found HFC-245fa acceptable for use in certain foam blowing (64 FR 68041, December 6, 1999) and refrigeration and air conditioning applications (65 FR 37901, June 19, 2000).

Environmental information: HFC-245fa has an ozone depletion potential of zero. It has a global warming potential (GWP) of 1022. This chemical has been exempted from listing as a VOC under Clean Air Act regulations.

Flammability: HFC-245fa is non-flammable.

Toxicity and exposure data: We expect users to follow all recommendations specified in the manufacturer's MSDS for HFC-245fa. We also expect that the workplace environmental exposure will not exceed the American Industrial Hygiene Association's (AIHA) workplace environmental exposure limit (WEEL) of 300 ppm.

Comparison to other aerosols: HFC-245fa's global warming potential (GWP) is similar to or lower than that of the ODSs that it would be replacing, and it has no ODP. Thus, HFC-245fa reduces risk overall compared to the substances it replaces. HFC-245fa:

(1) Is non-flammable and reduces the risk of fire compared to flammable aerosol solvents,

(2) Is less toxic than many of the non-flammable aerosol solvents, and

(3) Has a GWP comparable to or less than other substitute aerosol solvents and has no ODP.

Thus, we find that HFC-245fa is acceptable because it reduces overall risk to public health and the environment in the aerosol solvent end use.

C. Adhesives, Coatings and Inks

1. HFE-7100

EPA's decision: Hydrofluoroether-7100 is an acceptable substitute for:

• CFC-113, HCFC-141b, and methyl chloroform in adhesives, coatings, and inks.

Hydrofluoroether-7100 is also called HFE-7100; C4F9OCH3;C5F9OH3; methoxynonafluorobutane, iso and normal; and methyl nonafluorobutyl ether. HFE-7100 also may be used as a carrier for lubricant coatings.

Environmental information: HFE-7100 has an ozone depletion potential (ODP) of zero, a global warming potential (GWP) of 390 over a 100-year time horizon, and an atmospheric lifetime of 4.1years. This chemical has been exempted from listing as a volatile organic compound (VOC) under Clean Air Act regulations.

Flammability: HFE-7100 is non-flammable.

Toxicity and exposure data: HFE-7100 has low toxicity. HFE-7100 has a workplace environmental exposure limit (WEEL) of 750 ppm established by the American Industrial Hygiene Association (AIHA).

Comparison to other carrier solvents in adhesives, coatings, and inks: HFE-7100's GWP is similar to or lower than that of the ODSs that it would be replacing, and it has no ODP. Thus, HFE-7100 reduces risk overall compared to the substances it replaces.

HFE-7100:

(1) Is non-flammable and reduces the risk of fire compared to flammable carrier solvents,

(2) Is less toxic than the non-flammable carrier solvents, and

(3) Has a GWP comparable to or less than other substitute carrier solvents and has no ODP.

Thus, we find that HFE-7100 is acceptable because it reduces overall risk to public health and the environment in the adhesives, coatings, and inks end uses.

2. HFE-7200

EPA's decision: Hydrofluoroether-7200 is an acceptable substitute for:

• CFC-113, HCFC-141b, and methyl chloroform in adhesives, coatings, and inks.

Hydrofluoroether 7200 is also known as HFE-7200; C4F9OC2H5; C6F9OH5; and ethoxynonafluorobutane, iso and normal. HFE-7200 also may be used as a carrier for lubricant coatings.

Environmental information: HFE-7200 has an ODP of zero, a GWP of 55 and an atmospheric lifetime of 0.9 years. This chemical has been exempted from listing as a VOC under Clean Air Act regulations.

Flammability: HFE-7200 has no flash point. Its flammability range in air is 2.4-12.4%.

Toxicity and exposure data: The manufacturer's recommended exposure guideline for HFE-7200 is 200 ppm over an eight-hour time-weighted average. EPA expects HFE-7200 users to follow all recommendations specified in the manufacturer's Material Safety Data Sheets (MSDSs). We also expect that users of HFE-7200 will adhere to any acceptable exposure limits set by any voluntary consensus standards organization, including the American Conference of Governmental Industrial Hygienists' (ACGIH) threshold limit values (TLVs) or the AIHA's WEELs.

Comparison to other carrier solvents in adhesives, coatings, and inks: HFE-7200's GWP is similar to or lower than that of the ODSs that it would be replacing, and it has no ODP. Thus, HFE-7200 reduces risk overall compared to the substances it replaces.

HFE-7200:

(1) Reduces the risk of fire compared to more flammable carrier solvents,

(2) Is less toxic than the non-flammable carrier solvents, and

(3) Has a GWP comparable to or less than other substitute carrier solvents and has no ODP.

Thus, we find that HFE-7200 is acceptable because it reduces overall risk to public health and the environment in the adhesives, coatings, and inks end uses.

II. New Data Available on the Toxicity of HCFC-225ca/cb

The manufacturer of HCFC-225ca/cb conducted a review of the toxicity of HCFC-225ca, HCFC-225cb, and the mixture of the two isomers. The manufacturer's new analysis indicates that exposure limits of 50 ppm, 400 ppm, and 100 ppm, respectively, for the -ca and -cb isomers and for the commercial formulation of HCFC-225ca/cb may be appropriate. The company that produces HCFC-225 ca/cb has indicated to EPA that they may petition the American Industrial Hygiene Association, a voluntary standard setting committee, to set a Workplace Environmental Exposure Level using these new data.

When EPA originally reviewed HCFC-225ca/cb, we found this substitute acceptable subject to use conditions in solvents cleaning (June 13, 1995; 60 FR 31099) and acceptable in aerosol solvents (April 28, 1999; 64 FR 22993) as a substitute for methyl chloroform and CFC-113. At the time of our determination, we stated that the company-set exposure limit of 25 ppm for the -ca isomer and 250 ppm for the -cb isomer would be protective of human health. The condition for use of HCFC-225 as a non-aerosol cleaning solvent specified that users must meet the company-set exposure limit of 25 ppm for the -ca isomer.

EPA has also done our own assessment of the toxicity using all available toxicity studies and a benchmark dose approach to arrive at an acceptable exposure limit. Our analysis indicates that the manufacturer's revised exposure limits are sufficiently protective of human health. You can find this information in a document titled, “Recommendation of AELs for HCFC-225ca, HCFC-225cb, and HCFC-225 ca/cb.” This document is in EPA's Air Docket #A-91-42, item IX-B-73. To obtain a copy, you can contact the EPA Air Docket at the address and phone number listed above in the ADDRESSES section at the beginning of this document.

III. Section 612 Program

A. Statutory Requirements

Section 612 of the Clean Air Act authorizes EPA to develop a program for evaluating alternatives to ozone-depleting substances. We refer to this program as the Significant New Alternatives Policy (SNAP) program. The major provisions of section 612 are:

• Rulemaking—Section 612(c) requires EPA to promulgate rules making it unlawful to replace any class I (chlorofluorocarbon, halon, carbon tetrachloride, methyl chloroform, methyl bromide, and hydrobromofluorocarbon) or class II (hydrochlorofluorocarbon) substance with any substitute that the Administrator determines may present adverse effects to human health or the environment where the Administrator has identified an alternative that (1) reduces the overall risk to human health and the environment, and (2) is currently or potentially available.

• Listing of Unacceptable/Acceptable Substitutes—Section 612(c) also requires EPA to publish a list of the substitutes unacceptable for specific uses. EPA must publish a corresponding list of acceptable alternatives for specific uses.

• Petition Process—Section 612(d) grants the right to any person to petition EPA to add a substance to or delete a substance from the lists published in accordance with section 612(c). The Agency has 90 days to grant or deny a petition. Where the Agency grants the petition, it must publish the revised lists within an additional six months.

• 90-day Notification—Section 612(e) directs EPA to require any person who produces a chemical substitute for a class I substance to notify the Agency not less than 90 days before new or existing chemicals are introduced into interstate commerce for significant new uses as substitutes for a class I substance. The producer must also provide the Agency with the producer's unpublished health and safety studies on such substitutes.

• Outreach—Section 612(b)(1) states that the Administrator shall seek to maximize the use of federal research facilities and resources to assist users of class I and II substances in identifying and developing alternatives to the use of such substances in key commercial applications.

• Clearinghouse—Section 612(b)(4) requires the Agency to set up a public clearinghouse of alternative chemicals, product substitutes, and alternative manufacturing processes that are available for products and manufacturing processes which use class I and II substances.

B. Regulatory History

On March 18, 1994, EPA published the rulemaking (59 FR 13044) which described the process for administering the SNAP program. In the same notice, we issued the first acceptability lists for substitutes in the major industrial use sectors. These sectors include:

• Refrigeration and air conditioning;

• Foam blowing;

• Solvents cleaning;

• Fire suppression and explosion protection;

• Sterilants;

• Aerosols;

• Adhesives, coatings and inks; and

• Tobacco expansion.

These sectors compose the principal industrial sectors that historically consumed the largest volumes of ozone-depleting compounds.

As described in this original rule for the SNAP program, EPA does not believe that rulemaking procedures are required to list alternatives as acceptable with no limitations. Such listings do not impose any sanction, nor do they remove any prior license to use a substance. Therefore, by this notice we are adding substances to the list of acceptable alternatives without first requesting comment on new listings.

However, we do believe that notice-and-comment rulemaking is required to place any substance on the list of prohibited substitutes, to list a substance as acceptable only under certain conditions, to list substances as acceptable only for certain uses, or to remove a substance from the lists of prohibited or acceptable substitutes. We publish updates to these lists as separate notices of rulemaking in the Federal Register.

The Agency defines a “substitute” as any chemical, product substitute, or alternative manufacturing process, whether existing or new, intended for use as a replacement for a class I or class II substance. Anyone who produces a substitute must provide EPA with health and safety studies on the substitute at least 90 days before introducing it into interstate commerce for significant new use as an alternative. This requirement applies to substitute manufacturers, but may include importers, formulators, or end-users, when they are responsible for introducing a substitute into commerce.

You can find a complete chronology of SNAP decisions and the appropriate Federal Register citations from the SNAP section of EPA's Ozone Depletion World Wide Web site at www.epa.gov/ozone/title6/snap/chron.html. This information is also available from the Air Docket (see Addresses section above for contact information).

List of Subjects in 40 CFR Part 82

Environmental protection, Administrative practice and procedure, Air pollution control, Reporting and recordkeeping requirements.

Dated: March 1, 2002.
Paul Stolpman,
Director, Office of Atmospheric Programs, Office of Air and Radiation.

Appendix A—Summary of Acceptable Decisions

Refrigeration and Air Conditioning
End-use | Substitute | Decision | Further information
Very low temperature refrigeration (new equipment only) | PFC-1102HC, PFC-662HC, PFC-552HC and FLC-15 as substitutes for CFC-13, CFC-113, CFC-114 and blends thereof. | Acceptable.
Very low temperature refrigeration (retrofit and new) | Hydrofluoroether-7000 as a substitute for HCFC-123. | Acceptable.
Industrial process refrigeration (retrofit and new) | Hydrofluoroether-7000 as a substitute for CFC-11 and CFC-113. | Acceptable.
| ISCEON 39TC as a substitute for CFC-12 | Acceptable.
| R-404A as a substitute for HCFC-22. | Acceptable.
Non-mechanical heat transfer (retrofit and new) | Hydrofluoroether-7000 as a substitute for CFC-11 and CFC-113 | Acceptable.
Centrifugal chillers (retrofit and new) | ISCEON 39TC as a substitute for CFC-12 | Acceptable.
Industrial process air conditioning (retrofit and new) | ISCEON 39TC as a substitute for CFC-12 | Acceptable.
Cold storage warehouses (retrofit and new) | ISCEON 39TC as a substitute for CFC-12 | Acceptable.
Ice skating rinks (retrofit and new) | ISCEON 39TC as a substitute for CFC-12 | Acceptable.
The following end-uses (retrofit and new): • Centrifugal chiller • Reciprocating chillers • Industrial process refrigeration | R125/134a/600a (28.1/70.01/1.9)] as a sustitute for HCFC-22 | Acceptable.
• Industrial process air-conditioning
• Refrigerated transport
• Residential air conditioning and heat pumps
• Residential dehumidifiers
• Motor vehicle air conditioning, buses only
The following end-uses (retrofit and new): • Household and light commercial air-conditioning • Centrifugal chiller • Reciprocating chillers • Screw chillers • Industrial process refrigeration • Industrial process air-conditioning • Cold storage warehouses • Refrigerated transport • Retail food refrigeration • Commercial ice machines • Vending machines • Water coolers • Household refrigerators • Household freezers • Ice skating rinks • Non-mechanical heat transfer | NU-22/ISCEON 59 [R-125/134a/600 (46.6/50.0/3.4] as a substitute for HCFC-22 | Acceptable | EPA expects that manufacturers, installers and servicers of refrigeration and air-conditioning systems will follow all applicable industry practices and technical standards, including but not limited to standards issued by the American Society of Heating, Refrigerating and Air-conditioning Engineers (ASHRAE), and that exposures will be kept within all applicable American Industrial Hygiene Association (AIHA) and American Conference of Governmental Industrial Hygienists (ACGIH) occupational exposure limits.
Aerosol solvents | HFC-245fa as a substitute for CFC-113 and HCFC-141b. | Acceptable | EPA expects that the workplace environmental exposure will not exceed the Workplace Environmental Exposure Limit of 300 ppm and that users will observe the manufacturer's recommendations in MSDSs.
Adhesives, Coatings, and Inks
Adhesives, coatings, and inks | Hydrofluoroether-7100 as a substitute for CFC-113, HCFC-141b, and methyl chloroform | Acceptable.
Adhesives, coatings, and inks | Hydrofluoroether-7200 as a substitute for CFC-113, HCFC-141b, and methyl chloroform | Acceptable.

Appendix B—New Information Available

Non-Aerosol Cleaning Solvents
End-use | Substitute | Information available
Metal cleaning, Electronics cleaning, Precision cleaning | HCFC-225ca/cb | Report on benchmark dose analysis of acceptable exposure limit for HCFC-225ca/cb, HCFC-225ca, and HCFC-225cb. See Docket A-91-42, item IX-B-73.
Aerosols
Aerosol solvents | HCFC-225ca/cb | Report on benchmark dose analysis of acceptable exposure limit for HCFC-225ca/cb, HCFC-225ca, and HCFC-225cb. See Docket A-91-42, item IX-B-73.

[FR Doc. 02-6848 Filed 3-21-02; 8:45 am]

BILLING CODE 6560-50-P